DEPARTMENT OF TRANSPORTATION

Federal Railroad Administration

[Docket No. FRA-2017-0002-N-4]

Proposed Agency Information Collection Activities; Comment Request

AGENCY: Federal Railroad Administration (FRA), Department of Transportation (DOT).

ACTION: Notice and comment request.

SUMMARY: Under the Paperwork Reduction Act of 1995 (PRA), this notice announces that FRA is forwarding the proposed Information Collection Requests (ICRs) abstracted below to the Office of Management and Budget (OMB) for review and comment. The ICRs describe the information collections and their expected burden. On October 26, 2016, FRA published a notice providing a 60-day period for public comment on the ICRs.

DATES: Comments must be submitted on or before April 5, 2017.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (Telephone: (202) 493-6292); or Ms. Kim Toone, Information Collection Clearance Officer, Office of Administration, Office of Information Technology, RAD-20, Federal Railroad Administration, 1200 New Jersey Avenue SE., Mail Stop 35, Washington, DC 20590 (Telephone: (202) 493-6132). (These telephone numbers are not toll free.)

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On October 26, 2016, FRA published a 60-day notice in the Federal Register soliciting comment on the ICR for which it is now seeking OMB approval. See 81 FR 74496. FRA received one comment in response to this notice relating to OMB No. 2130-0500, Accident/Incident Reporting and Recordkeeping, 49 CFR part 225 (part 225).

The comment came from the Association of American Railroads (AAR) in an email letter sent to FRA on November 29, 2016. In its comment, AAR stated FRA should take this opportunity to: (1) Update the rail equipment accident/incident monetary reporting threshold (reporting threshold), so that the information collected will have practical utility; and (2) improve the quality, utility, and clarity of the information collected. At the time of its comment, AAR noted FRA last changed the reporting threshold from $9,900 to $10,500 on December 24, 2013. See 78 FR 77601. AAR also cited FRA's stated intent to reexamine and amend how it calculates the reporting threshold because new data sources and methodologies to calculate the threshold have become available since 2006, and updating the formula to include these advances will ensure it appropriately reflects changes in costs, wages, and inflation. See 78 FR 77601, Dec. 24, 2013; 79 FR 77397, Dec. 24, 2014; 80 FR 80683, Dec. 28, 2015; 81 FR 94271, Dec. 23, 2016 for FRA's intent to reexamine and amend how it calculates the reporting threshold. AAR further stated this inaction has an effect that compounds over time: Failure to update the reporting threshold reduces the utility of the accident count and other statistics derived from the accident data railroads report. AAR noted many in the industry use this data to compare accident rates across time and evaluate the state of railroad safety and to develop and monitor the impact of initiatives to improve safety. AAR stated the failure to update the reporting threshold to take account of inflation results in artificial increase in accident rates and, accordingly, FRA should update the reporting threshold annually.

FRA regularly reviews and amends, if necessary, its reporting threshold. FRA annually analyzes any cost increases or decreases to the reporting threshold and, under the procedures part 225 appendix B, determines whether any changes to the reporting threshold are needed; the changes in costs may not warrant amending the reporting threshold for a particular calendar year (CY). FRA conducted these analyses between CYs 2014 and 2016 and determined it was not necessary to adjust the reporting threshold based upon any cost increases or decreases. FRA published final rules for each of those CYs providing the bases for its decision and those final rules contained the data FRA used to reach its conclusions. See 80 FR 80683, Dec. 28, 2015. In addition, FRA issued a final rule on December 23, 2016, increasing the reporting threshold from $10,500 to $10,700 for CY 2017. See 81 FR 94271. To ensure the utility and quality of the information collected under part 225, FRA continues to evaluate its method for calculating the reporting threshold and hopes to publish a proposed rule amending its method.

Finally, AAR commented that, given technology available today, FRA should easily be able to make public the spreadsheets it uses to calculate cost and benefit estimates for proposed and final rules in interactive format (with underlying formulas in a cells-accessible format) instead of a hard-coded PDF format. AAR stated this will greatly facilitate public review and comment and increase the utility of the data collected under part 225 at little or no cost to FRA.

FRA is—and has always been—a strong believer in transparency and provides a full explanation for the costs and benefits of each proposed and final agency rule in the accompanying regulatory impact analysis found in the public docket at https://www.regulations.gov. The current format provides all the essential information to be understood and replicated by the regulated community and the general public required by law. FRA does not believe creating another format is necessary because of the easy duplicability of each economic analysis by industry in a format of their choice and because FRA's limited resources preclude it from providing multiple formats for the same analysis.

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure they have full effect. 5 CFR 1320.12(c); see also 60 FR 44983, Aug. 29, 1995.

The summary below describes the ICR and its expected burden. FRA is submitting the new request for clearance by OMB as the PRA requires.

Title: Accident/Incident Reporting and Recordkeeping.

OMB Control Number: 2130-0500.

Abstract: The collection of information is necessary due to the railroad accident/incident reporting regulations in part 225 requiring railroads to submit and/or maintain a variety of reports. These include: (1) Monthly reports summarizing collisions, derailments, and certain other accidents/incidents involving equipment damages above a periodically revised dollar threshold; and (2) monthly reports relating to certain highway-rail grade crossing accidents/incidents and casualties arising from the operation of the railroad to passengers, employees, and other persons. Other reports are required annually or occasionally. Because the reporting requirements and the information needed regarding each category of accident/incident are unique, FRA requires a different form for each category.

Type of Request: Extension with change of a currently approved information collection.

Affected Public: Railroads.

Form(s): FRA F 6180.54; 55; 55A; 56; 57; 78; 81; 97; 98; 99; 107; 150.

Total Estimated Annual Responses: 109,430.

Total Estimated Annual Burden: 46,577 hours.

Title: Railroad Communications.

OMB Control Number: 2130-0524.

Abstract: FRA's railroad communications regulations (49 CFR part 220) prescribe minimum requirements governing the use of wireless communications in connection with railroad operations. In addition, the regulations set forth prohibitions, restrictions, and requirements that apply to the use of personal and railroad-supplied cellular telephones and other electronic devices. If these minimum requirements are met, railroads may adopt additional or more stringent requirements.

Type of Request: Extension with change of a currently approved information collection.

Affected Public: Railroads.

Form(s): N/A.

Total Estimated Annual Responses: 12,433,554.

Total Estimated Annual Burden: 293,521 hours.

Title: Safety Integration Plans.

OMB Control Number: 2130-0557.

Abstract: FRA and the Surface Transportation Board, working in conjunction, issued joint final rules establishing procedures for a Class I railroad proposing to undergo certain specified merger, consolidation, or acquisition of control transactions with another Class I railroad, or a Class II railroad it proposes to amalgamate operations with, to develop and implement safety integration plans (“SIPs” or “plans”). The scope of the transactions covered under the two rules is the same. FRA uses the information collected, i.e. the required SIPs, to maintain and promote a safe rail environment by ensuring affected railroads (Class Is and some Class IIs) address critical safety issues unique to the amalgamation of large, complex railroad operations.

Type of Request: Extension without change of a currently approved information collection.

Affected Public: Railroads.

Form(s): N/A.

Total Estimated Annual Responses: 60.

Total Estimated Annual Burden: 528 hours.

Title: Passenger Train Emergency Systems.

OMB Control Number: 2130-0576.

Abstract: The collection of information arises from FRA's passenger equipment safety regulations in 49 CFR part 238. Specifically, FRA rules for emergency passage through vestibule and other interior passageway doors and enhanced emergency egress and rescue have signage requirements. FRA also established requirements for low-location emergency exit path markings to assist occupants in reaching and operating emergency exits, particularly under conditions of limited visibility. Moreover, FRA has standards to ensure emergency lighting systems are provided in all passenger cars and enhanced requirements for the survivability of emergency lighting systems in new passenger cars. The purpose of this part is to prevent collisions, derailments, and other occurrences involving railroad passenger equipment that cause injury or death to railroad employees, railroad passengers, or the general public and to mitigate the consequences of such occurrences to the extent that they cannot be prevented.

Type of Request: Extension without change of a currently approved information collection.

Affected Public: Railroads.

Form(s): N/A.

Total Estimated Annual Responses: 89,780.

Total Estimated Annual Burden: 23,325 hours.

Addressee: Send comments regarding these information collections to the Office of Information and Regulatory Affairs, Office of Management and Budget, 725 17th Street NW., Washington, DC 20503, Attention: FRA Desk Officer. Comments may also be sent via email to OMB at the following address: oira_submissions@omb.eop.gov.

Comments are invited on the following: Whether the proposed collections of information are necessary for DOT to properly perform its functions, including: Whether the information will have practical utility; the accuracy of DOT's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Sarah L. Inderbitzin,
Acting Chief Counsel.

[FR Doc. 2017-04235 Filed 3-3-17; 8:45 am]

BILLING CODE 4910-06-P